DEPARTMENT OF VETERANS AFFAIRS

Veterans Advisory Committee on Rehabilitation (VACOR); Notice of Meeting

The Department of Veterans Affairs (VA) gives notice under Public Law 92-463 that a meeting of the Veterans' Advisory Committee on Rehabilitation (VACOR), authorized by Public Law 96-466, Subsection 1521, will be held on November 13 through 16, 2000. The meeting will be held at VA Central Office, 810 Vermont Avenue NW., Washington, DC 20006.

The meeting schedule is as follows:

Date | Room # | Time
November 13th | 1010 | 9 a.m. to 4 p.m.
November 14th and 15th | 732 | 9 a.m. to 4 p.m.
November 16th | 1046 | 9 a.m. to 12 p.m.

The purpose of the meeting is to review the quality of the services which the Department of Veterans Affairs provides to disabled veterans who participate in VA sponsored programs of rehabilitation. In addition, VACOR will conduct an internal business meeting focusing on a review of past activities and the development of future initiatives.

On November 13th, the meeting will begin with opening remarks and an overview by Mr. Richard K. Pimentel, Committee Chairman. The Committee will receive a briefing on President Clinton's executive order call on agencies to hire 100,000 people with disabilities over the next five years. The afternoon session will be devoted to discussing recruitment initiatives needed to assist veterans with disabilities obtain employment with regard to the executive order.

On November 14, the Committee will receive a presentation on employment barriers encountered by veterans with disabilities when seeking employment. The afternoon session will be devoted to identifying methods and tools needed to remove the barriers, giving specific attention to assisting the most seriously disabled veterans.

The November 15th meeting will encompass a discussion of medical and rehabilitation integration within the Department of Veterans Affairs in comparison to the private sector. The afternoon session will consist of a continuation of the morning's discussion, specifically vocational rehabilitation's early intervention with the medical centers in the early stages of a veteran's injury or trauma.

On November 16th, the meeting will include a review of past unfinished business, recommendations for program changes, and a discussion of future meeting sites and future agenda topics.

Members of the general public may attend these meetings and join in the discussion, subject to the instructions of the Chair. If additional information is needed, please contact Jada G. Jones, Employment Specialist, Department of Veterans Affairs, at (202) 273-7425.

Dated: October 16, 2000.
Marvin R. Eason,
Committee Management Officer.

[FR Doc. 00-27627 Filed 10-27-00; 8:45 am]

BILLING CODE 8320-01-M